DEPARTMENT OF ENERGY

Federal Energy Regulatory Commission

[Docket No. EC00-46-000, et al.]

Vermont Yankee Nuclear Power Corporation, et al.; Electric Rate and Corporate Regulation Filings

January 11, 2000.

Take notice that the following filings have been made with the Commission:

1. Vermont Yankee Nuclear Power Corporation, Vermont Electric Power Company, Inc., AmerGen Vermont, L.L.C.

[Docket No. EC00-46-000]

Take notice that on January 6, 2000, Vermont Yankee Nuclear Power Corporation, Vermont Electric Power Company, Inc., and AmerGen Vermont, L.L.C., tendered for filing a joint application seeking authorization for the sale of jurisdictional facilities and authorization to assign certain contractual rights and obligations to a Special Purpose Entity subsidiary pursuant to Section 203 of the Federal Power Act.

Comment date: February 7, 2000, in accordance with Standard Paragraph E at the end of this notice.

2. Edgar Electric Cooperative d/b/a/, EnerStar Power Corporation, Tennessee Power Company, American Power Exchange, Inc.

[Docket No. ER98-2305-005] [Docket No. ER95-581-019] [Docket No. ER94-1578-021]

Take notice that on January 6, 2000, the above-mentioned power marketers filed quarterly reports with the Commission in the above-mentioned proceedings for information only.

3. Baltimore Gas and Electric Company

[Docket No. ER00-1031-000]

Take notice that on January 6, 2000, Baltimore Gas and Electric Company filed their quarterly report for the quarter ending December 31, 1999.

Comment date: January 31, 2000, in accordance with Standard Paragraph E at the end of this notice.

4. Pacific Gas & Electric Company

[Docket Nos. ER00-658-000]

Take notice that on January 7, 2000, Pacific Gas & Electric Company (PG&E), pursuant to Rule 216 of the Commission's Rules of Practice and Procedure, 18 CFR Section 385.216, tendered for filing Notice of withdrawal of its Pro Forma Interconnection Policy and Agreements filed with the Commission on November 24, 1999. PG&E is also requesting that the above referenced docket be closed.

Comment date: January 27, 2000, in accordance with Standard Paragraph E at the end of this notice.

5. California Power Exchange Corporation

[Docket No. ER00-951-000]

Take notice that on January 7, 2000, California Power Exchange Corporation (CalPX), on behalf of its CalPX Trading Services Division (CTS), tendered for filing an amendment to its December 30, 1999 filing in the above-referenced docket.

The errata notice does not affect the proposed effective date for the proposed CTS rate schedule changes.

Comment date: January 27, 2000, in accordance with Standard Paragraph E at the end of this notice.

6. New Century Services, Inc.

[Docket No. ER00-1032-000]

Take notice that on January 7, 2000, New Century Services, Inc. (NCS), on behalf of Public Service Company of Colorado (Public Service), tendered for filing the Master Power Purchase and Sale Agreement between Public Service and West Texas Municipal Power Agency, which is an umbrella service agreement under Public Service's Rate Schedule for Market-Based Power Sales (Public Service FERC Electric Tariff, Original Volume No. 6).

NCS requests that this agreement become effective on December 9, 1999.

Comment date: January 27, 2000, in accordance with Standard Paragraph E at the end of this notice.

7. Entergy Services, Inc.

[Docket No. ER00-1033-000]

Take notice that on January 7, 2000, Entergy Services, Inc., on behalf of Entergy Arkansas, Inc., Entergy Mississippi, Inc., Entergy Louisiana, Inc., Entergy Gulf States, Inc., and Entergy New Orleans, Inc., (collectively, the Entergy Operating Companies) tendered for filing a Letter Agreement between Entergy Services, Inc. and Sam Rayburn Municipal Power Agency for the installation of the New Liberty Substation off of Entergy Service's Line No. 542 (138kV).

Comment date: January 27, 2000, in accordance with Standard Paragraph E at the end of this notice.

8. California Independent System Operator Corporation

[Docket No. ER00-1034-000]

Take notice that on January 7, 2000, the California Independent System Operator Corporation (ISO), tendered for filing a Scheduling Coordinator Agreement between the ISO and Koch Energy Trading, Inc. (Koch Energy) for acceptance by the Commission.

The ISO states that this filing has been served on Koch Energy and the California Public Utilities Commission.

The ISO is requesting waiver of the 60-day notice requirement to allow the Scheduling Coordinator Agreement to be made effective January 4, 2000.

Comment date: January 27, 2000, in accordance with Standard Paragraph E at the end of this notice.

9. New England Power Pool

[Docket No. ER00-1035-000]

Take notice that on January 7, 2000, the New England Power Pool Participants Committee submitted changes to Market Rules 6, 8 and 9. Additionally, NEPOOL has requested a waiver of the Commission's notice requirements to permit the revisions to Market Rules 6, 8 and 9 to become effective as of January 11, 2000.

The NEPOOL Participants Committee states that copies of these materials were sent to the New England state governors and regulatory commissions and the Participants in the New England Power Pool.

Comment date: January 27, 2000, in accordance with Standard Paragraph E at the end of this notice.

10. DPL Energy, Inc.

[Docket No. ER00-1036-000]

Take notice that on January 7, 2000, DPL Energy, Inc. (DPL Energy), tendered for filing a service agreement establishing Dayton Power and Light Company (DP&L) as a customer under the terms of DPL Energy's market-based sales tariff.

DPL Energy requests an effective date of February 1, 2000 for the Service Agreement.

Copies of this filing were served upon DP&L and the Public Utilities Commission of Ohio.

Comment date: January 27, 2000, in accordance with Standard Paragraph E at the end of this notice.

11. Great Bay Power Corporation, Inc.

[Docket No. ER00-1037-000]

Take notice that on January 7, 2000, Great Bay Power Corporation (Great Bay), tendered for filing service agreements between Aquila Energy Marketing Corporation and Great Bay and between El Paso Power Services and Great Bay for service under Great Bay's revised Tariff for Short Term Sales. This Tariff was accepted for filing by the Commission on July 24, 1998, in Docket No. ER98-3470-000.

The service agreements are proposed to be effective January 1, 2000.

Comment date: January 27, 2000, in accordance with Standard Paragraph E at the end of this notice.

12. Soyland Power Cooperative, Inc.

[Docket No. ER00-1038-000]

Take notice that on January 7, 2000, Soyland Power Cooperative, Inc. (Soyland), tendered for filing with the Federal Energy Regulatory Commission (the Commission) a notice of cancellation of its all-requirements service contract with Clay Electric Cooperative, Inc., (Clay). Soyland states that Clay has withdrawn from membership in Soyland, and Soyland will no longer provide all-requirements electric service to Clay.

Soyland requests an effective date of January 7, 2000 for the notice of cancellation. Accordingly, Soyland requests waiver of the Commission's regulations. Soyland states that a copy of the filing has been served on Clay.

Comment date: January 27, 2000, in accordance with Standard Paragraph E at the end of this notice.

13. Soyland Power Cooperative, Inc.

[Docket No. ER00-1039-000]

Take notice that on January 7, 2000, Soyland Power Cooperative, Inc. (Soyland), tendered for filing with the Federal Energy Regulatory Commission (the Commission) a notice of cancellation of its all-requirements service contract with Clinton County Electric Cooperative, Inc., (Clinton). Soyland states that Clinton has withdrawn from membership in Soyland, and Soyland will no longer provide all-requirements electric service to Clinton under this contract.

Soyland requests an effective date of January 7, 2000 for the notice of cancellation. Accordingly, Soyland requests waiver of the Commission's regulations.

Soyland states that a copy of the filing has been served on Clinton.

Comment date: January 27, 2000, in accordance with Standard Paragraph E at the end of this notice.

14. Soyland Power Cooperative, Inc.

[Docket No. ER00-1040-000]

Take notice that on January 7, 2000, Soyland Power Cooperative, Inc. (Soyland) tendered for filing with the Federal Energy Regulatory Commission (the Commission) a notice of cancellation of its all-requirements service contract with Tri-County Electric Cooperative Inc. (Tri-County). Soyland states that Tri-County has withdrawn from membership in Soyland, and Soyland will no longer provide all-requirements electric service to Tri-County under this agreement.

Soyland requests an effective date of January 7, 2000 for the notice of cancellation. Accordingly, Soyland requests waiver of the Commission's regulations.

Soyland states that a copy of the filing has been served on Tri-County.

Comment date: January 27, 2000, in accordance with Standard Paragraph E at the end of this notice.

15. Soyland Power Cooperative, Inc.

[Docket No. ER00-1041-000]

Take notice that on January 7, 2000, Soyland Power Cooperative, Inc. (Soyland), tendered for filing with the Federal Energy Regulatory Commission (the Commission) a notice of cancellation of its all-requirements service contract with Wayne-White Counties Electric Cooperative, Inc., (WWEC). Soyland states that WWEC has withdrawn from membership in Soyland, and Soyland will no longer provide all-requirements electric service to WWEC.

Soyland requests an effective date of January 7, 2000 for the notice of cancellation. Accordingly, Soyland requests waiver of the Commission's regulations.

Soyland states that a copy of the filing has been served on WWEC.

Comment date: January 27, 2000, in accordance with Standard Paragraph E at the end of this notice.

16. Cinergy Services, Inc.

[Docket No. ER00-1042-000]

Take notice that on January 4, 2000, Cinergy Services, Inc., on behalf of its Operating Company affiliates, The Cincinnati Gas & Electric Company and PSI Energy, Inc. (COC), tendered for filing an executed service agreement between COC and Duke Energy Trading and Marketing, L.L.C. (DETM) replacing the unexecuted service agreement filed on November 28, 1997 under Docket No. ER98-847-000 per COC FERC Electric Market-Based Power Sales Tariff, Original Volume No. 7-MB.

Cinergy is requesting an effective date of October 29, 1997 and the same Rate Designation as per the original filing.

Comment date: January 24, 2000, in accordance with Standard Paragraph E at the end of this notice.

17. Alliant Energy Corporate Services, Inc.

[Docket No. ER00-1043-000]

Take notice that on January 10, 2000, Alliant Energy Corporate Services, Inc., tendered for filing executed Service Agreements for short-term firm point-to-point transmission service and non-firm point-to-point transmission service, establishing Cargill-Alliant, LLC as a point-to-point Transmission Customer under the terms of the Alliant Energy Corporate Services, Inc. transmission tariff.

Alliant Energy Corporate Services, Inc. requests an effective date of December 11, 1999, and accordingly, seeks waiver of the Commission's notice requirements.

A copy of this filing has been served upon the Illinois Commerce Commission, the Minnesota Public Utilities Commission, the Iowa Department of Commerce, and the Public Service Commission of Wisconsin.

Comment date: February 1, 2000, in accordance with Standard Paragraph E at the end of this notice.

18. New Century Services Inc.

Docket No. ER00-1045-000]

Take notice that on January 10, 2000, New Century Services Inc. (NCS), on behalf of Public Service Company of Colorado (Public Service), tendered for filing the Master Power Purchase and Sale Agreement between Public Service and Arkansas River power Authority (ARPA), which is an umbrella service agreement under the Public Service's Rate Schedule for Market-Based Power Sales (Public Service FERC Electric Tariff, Original Volume No. 6).

NCS requests that this agreement become effective on November 22, 1999.

Comment date: February 1, 2000, in accordance with Standard Paragraph E at the end of this notice.

19. Calcasieu Power, LLC

[Docket No. ER00-1049-000]

Take notice that on January 10, 2000, Calcasieu Power, LLC, tendered for filing pursuant to Rule 205, 18 CFR 385.205, a petition for waivers and blanket approvals under various regulations of the Commission and for an order accepting its FERC Electric Rate Schedule No. 1 to become effective as of the date specified by the Federal Energy Regulatory Commission.

Calcasieu Power, LLC intends to sell electric power at wholesale at rates, terms, and conditions to be mutually agreed to with the purchasing party. Rate Schedule No. 1 provides for the sale of electric energy and capacity at agreed prices.

Comment date: February 1, 2000, in accordance with Standard Paragraph E at the end of this notice.

20. Louisville Gas and Electric Company/Kentucky Utilities Company

[Docket No. ER00-1050-000]

Take notice that on January 10, 2000, Louisville Gas and Electric Company (LG&E)/Kentucky Utilities (KU) (hereinafter Companies), tendered for filing an executed Firm Point-to-Point Transmission Service Agreement between the Companies and LGE Dispatch and Trading under the Companies Open Access Transmission Tariff.

Comment date: February 1, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-1155 Filed 1-18-00; 8:45 am]

BILLING CODE 6717-01-P